DEPARTMENT OF EDUCATION

Office of Special Education and Rehabilitative Services

AGENCY: Department of Education.

ACTION: Notice inviting applications for new awards for fiscal year (FY) 2003.

SUMMARY: This notice announces closing dates, priorities, and other information regarding the transmittal of grant applications for FY 2003 competitions under two programs authorized under part D, subpart 2 of the Individuals with Disabilities Education Act, as amended (IDEA). The two programs are: (1) Special Education—Research and Innovation to Improve Services and Results for Children with Disabilities (1 priority); and (2) Special Education—Technical Assistance and Dissemination to Improve Services and Results for Children with Disabilities (1 priority).

Please note that significant dates for the availability and submission of applications, as well as important fiscal information, are listed in a table at the end of this notice.

Waiver of Rulemaking

It is generally our practice to offer interested parties the opportunity to comment on proposed priorities. However, section 661(e)(2) of IDEA makes the public comment requirements in the Administrative Procedure Act (5 U.S.C. 553) inapplicable to the priorities in this notice.

General Requirements

(a) The projects funded under this notice must make positive efforts to employ and advance in employment qualified individuals with disabilities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) If a project maintains a Web site, it must include relevant information and documents in an accessible form.

Page Limit: If you are an applicant, Part III of each application, the application narrative, is where you address the selection criteria that are used by reviewers in evaluating the application. You must limit Part III to the equivalent of no more than the number of pages listed in the table at the end of this notice, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I—the cover sheet; Part II—the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Project for Electronic Submission of Applications

In Fiscal Year 2003, the U.S. Department of Education is continuing to expand its pilot project of electronic submission of applications to include additional formula grant programs and additional discretionary grant competitions. The two programs in this announcement: Research and Innovation to Improve Services and Results for Children with Disabilities—CFDA 84.324, and Technical Assistance and Dissemination to Improve Services and Results for Children with Disabilities—CFDA 84.326, are included in the pilot project. If you are an applicant for a grant under the two programs in this notice, you may submit your application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you elect to participate in the e-Application pilot for the Research and Innovation to Improve Services and Results for Children with Disabilities Program, or the Technical Assistance and Dissemination to Improve Services and Results for Children with Disabilities Program and you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 a.m. and 3:30 p.m., Washington, DC, time, on the deadline date; or

(b) The e-Application system must be unavailable for any period of time during the last hour of operation (that is, for any period of time between 3:30 and 4:30 p.m., Washington, DC, time) on the deadline date.

The Department must acknowledge and confirm these periods of unavailability before granting you an extension. To request this extension you must contact either (1) the person listed elsewhere in this notice under FOR FURTHER INFORMATION CONTACT or (2) the e-GRANTS help desk at 1-888-336-8930.

You may access the electronic grant application for the Research and Innovation to Improve Services and Results for Children with Disabilities Program, or the Technical Assistance and Dissemination to Improve Services and Results for Children with Disabilities Program at: http://e-grants.ed.gov.

We have included additional information about the e-Application pilot project (see Parity Guidelines between Paper and Electronic Applications) in the application packages.

Research and Innovation To Improve Services and Results for Children With Disabilities [CFDA Number 84.324]

Purpose of Program: To produce, and advance the use of, knowledge to improve the results of education and early intervention for infants, toddlers, and children with disabilities.

Eligible Applicants: State educational agencies (SEAs); local educational agencies (LEAs); institutions of higher education (IHEs); other public agencies; nonprofit private organizations; outlying areas; freely associated States; and Indian tribes or tribal organizations.

Applicable Regulations: (a) The Education Department General Administrative Regulations (EDGAR) in 34 CFR parts 74, 75, 77, 80, 81, 82, 85, 86, 97, 98, and 99; and (b) The selection criteria, chosen from the EDGAR general selection criteria in 34 CFR 75.210. The specific selection criteria for these competitions will be provided in the application package for these competitions.

Note: The regulations in 34 CFR part 86 apply to IHEs only.

Priorities

Under 34 CFR 75.105(c)(3), we consider only applications that meet the following priority:

Absolute Priority—Research Institute on Progress Monitoring (84.324H)

Background

Progress monitoring research has focused mostly on developing basic reading and math skills for elementary school students with high incidence disabilities. The focus of this research must be expanded to include students with significant cognitive and developmental disabilities. The use of progress monitoring will determine the skills that these students have learned and need to learn, their rates of learning, and instructional modifications that are needed to improve their access to and progress in the general education curriculum.

Priority

The purpose of this priority is to support a cooperative agreement for an Institute that will conduct a program of research that addresses issues associated with the use of progress monitoring for students with significant cognitive and developmental disabilities in elementary school, middle school, and high school. The Institute's activities must include, but are not limited to, the following:

(a) Developing and implementing plans of research to identify and validate progress monitoring strategies for elementary school, middle school, and high school that will maximize achievement of students who have significant cognitive and developmental disabilities. These strategies should focus on content domains and complex skills and align with the existing curriculum.

(b) Developing a conceptual framework that builds upon current progress monitoring research, provides a basis for the intervention strategies to be studied, and includes a theoretical and empirical rationale for the research design.

(c) Establishing and validating progress monitoring standards. This activity must:

(1) Describe the process for assessing student progress given the wide range of student performance and high expectations States have for all students;

(2) Ensure that standards are relevant for students with significant disabilities;

(3) Identify and describe what assessments will be used, how often measures will be administered, how the measures will be scored, and to what grade level the measures apply; and

(4) Identify methods for effectively reporting progress to teachers and parents.

(e) Evaluating the interaction between instruction and progress monitoring. This evaluation must:

(1) Examine and improve the process for making decisions about how to target instruction that will be effective, given the identified learning characteristics of each student;

(2) Measure the interaction between progress monitoring outcomes and the modification of instruction in terms of the consistency, explicitness, intensity, and duration of the instruction as well as the fidelity to its design;

(3) Evaluate the effect that context of instruction has on student growth and outcomes;

(4) Study content of instruction and the efficacy of progress monitoring in this content;

(5) Document changes that could be made to strengthen the approach to instruction modification based upon progress monitoring results;

(6) Identify effective strategies for including progress monitoring in the Individualized Education Program development; and

(7) Examine the role of technology in progress monitoring.

The Institute must also:

(a) For projects that use group comparison research, or other research covered by the Design and Implementation Assessment Device (DIAD), utilize an overall methodology that meets the standards set out in the DIAD protocol from the What Works Clearinghouse (WWC);

(b) Report the findings, as specified in the DIAD protocol from the What Works Clearinghouse, for all publications based on group comparison research, or other research covered by the DIAD. More information about the WWC and the DIAD protocol can be found at http://www.w-w-c.org;

(c) Prepare and disseminate reports and documents, including publications in peer-refereed journals, on progress monitoring and other related topics for specific audiences, as appropriate, such as researchers and policymakers;

(d) Prepare and disseminate, through a Web site (in both English and Spanish) and by other means, reports and documents on research findings and related topics, including a comprehensive analysis of progress monitoring literature;

(e) Share information with the Technical Assistance and Dissemination Center on Progress Monitoring;

(f) Maintain communication with the Federal project officer through e-mail communication, as needed, and monthly conference calls. The Institute must submit annual performance reports and provide additional written materials, as needed, for the Federal project officer to monitor the Institute's work;

(g) Establish, maintain, and meet at least annually with an advisory committee consisting of researchers, representatives of State and local agencies, individuals with significant disabilities, parent educators, TA providers, professional organizations and advocacy groups, and representatives of other appropriate groups to review and advise on the Institute's design, plans, products, and activities; and

(h) In addition to the three two-day meetings listed in the General Requirements section of this notice, budget for, at least, two annual planning meetings and, at least, eight two-day trips annually as requested by OSEP to attend meetings such as Department briefings, Department sponsored conferences, and other OSEP-requested activities.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Institute; and

(c) The degree to which the project's design and methodology demonstrate the potential for advancing significant new knowledge.

Special Education—Technical Assistance and Dissemination To Improve Services and Results for Children With Disabilities [CFDA Number 84.326]

Purpose of Program: The purpose of this program is to provide technical assistance and information—through such mechanisms as institutes, regional resource centers, clearinghouses, and programs that support States and local entities in building capacity—to (1) improve early intervention, educational, and transitional services and results for children with disabilities and their families; and (2) address systemic-change goals and priorities.

Eligible applicants: State educational agencies, local educational agencies, institutions of higher education, other public agencies, nonprofit private organizations, for-profit organizations, outlying areas, freely associated States, and Indian tribes or tribal organizations.

Applicable Regulations: (a) The Education Department General Administrative Regulations (EDGAR) in 34 CFR parts 74, 75, 77, 79, 80, 81, 82, 85, 86, 97, 98, and 99; and (b) The selection criteria, chosen from the general selection criteria in 34 CFR 75.210. The specific selection criteria for these competitions will be provided in the application package for these competitions.

Note: The regulations in 34 CFR part 86 apply to institutions of higher education only.

Note: The regulations in 34 CFR part 79 apply to all applicants except federally recognized Indian tribes.

Priorities

Under 34 CFR 75.105(c)(3) we consider only applications that meet the following priority:

Absolute Priority—Technical Assistance and Dissemination Center on Progress Monitoring (84.326W)

Background

The use of progress monitoring can lead to improved learning outcomes for students with and without disabilities and higher expectations for students through more frequent instructional modifications. Although progress monitoring is proving to be a powerful tool, it is not widely utilized. Widespread use of progress monitoring will provide more timely information on the extent to which students with disabilities are making progress and are prepared for statewide assessments.

Priority

The purpose of this priority is to support a cooperative agreement for a Center that will provide technical assistance for State educational agencies (SEAs) and local educational agencies (LEAs) and disseminate information regarding progress monitoring, particularly for use in content areas taught in grades kindergarten through five.

The Center's activities must include, but are not limited to, the following:

(a) Working directly with the Office of Special Education (OSEP) Technical Assistance Network, States, school districts, national teacher organizations, and other relevant programs and organizations on the scale up and sustainability of progress monitoring in schools, particularly in grades kindergarten through five. This activity must include:

(1) Setting student expectations, selecting measures of progress, scoring and analyzing progress monitoring data, and using data to institute changes in instruction, policy, and teacher accountability;

(2) Establishing a cadre of national trainers and a system for communication and discussion among States implementing progress monitoring;

(3) Conducting an annual survey of States to determine the current status of implementing progress monitoring, including how States use progress monitoring and how States promote its use, and evaluating policies and practices that sustain its use;

(4) Identifying States and LEAs that have successfully used progress monitoring to improve outcomes for students with disabilities;

(5) Fostering partnerships between LEAs that have successfully used progress monitoring and others that want to implement progress monitoring, and observing and documenting the process of change for those LEAs who have not previously implemented progress monitoring;

(6) Providing technical assistance to States based upon their needs and commitment to implementation of progress monitoring. This must include providing technical assistance to three OSEP-identified States per year. This effort may include the following: (i) Collaborative Web-based technical assistance activities, (ii) coordination of and participation in State-to-State communities of practice, and (iii) direct technical assistance to OSEP-specified States through partnerships between OSEP and selected States.

Note: Staff time and project resources dedicated to provide technical assistance to OSEP-specified States will be negotiated with OSEP as part of the cooperative agreement within 30 days of the project award (OSEP anticipates that technical assistance to OSEP-specified States could average approximately $40,000 per year. Budgets should be developed with this in mind);

(7) Developing and applying strategies for the dissemination of information to specific audiences including teachers, families, administrators, policymakers, and researchers. Such strategies must involve collaboration with other technical assistance providers, organizations, and researchers as described above; and

(8) Establishing an internal evaluation to:

(i) Document successful practices and analyze less successful approaches to determine changes that could strengthen these less successful approaches;

(ii) Examine patterns and strategies for implementing effective use of progress monitoring across successful LEAs; and

(iii) Identify where additional areas of limited knowledge research is needed.

(b) Conducting National and regional meetings including large-scale dissemination conferences, focused trainer forums, topical symposium, and other meetings on progress monitoring and related issues as requested by OSEP. At a minimum, the Center must hold trainer forums every other year, a symposium in the off years, and a national conference in year 5.

(c) Preparing and disseminating reports and documents, on progress monitoring and other related topics for specific audiences, as appropriate, such as parents, administrators, teachers, related-services personnel, researchers, and individuals with disabilities. This effort must also include compiling documentation to assist LEAs in implementing progress monitoring and other technical assistance providers in developing training materials.

(d) Preparing and disseminating, through a Web site (in both English and Spanish) and by other means, reports and documents on research findings and related topics, including a comprehensive analysis of progress monitoring literature.

(e) Sharing information with the Research Institute on Progress Monitoring.

(f) Maintaining communication and collaboration with other Office of Special Education and Rehabilitative Services (OSERS)—funded projects such as the Office of Special Education Regional Resource Centers; the IDEA Partnership Project; parent projects; other OSEP progress monitoring, dissemination, and synthesis projects; and other projects, as appropriate.

(g) Maintaining communication with the Federal project officer through e-mail communication, as needed, and monthly conference calls. The Center must submit annual performance reports and provide additional written materials, as needed, for the Federal project officer to monitor the Center's work.

(h) Establishing, maintaining, and meeting at least annually with an advisory committee consisting of technical assistance providers, researchers, representatives of State and local agencies, individuals with disabilities, parents, professional organizations and advocacy groups, and representatives of other appropriate groups to review and advise on the Center's design, plans, products, and activities.

(i) Establishing an external evaluation mechanism to analyze the implementation of progress monitoring and the overall impact of the Center's work, particularly its effect on student outcomes. The Center must report its evaluation findings annually to the Federal project officer.

(j) Coordinating with the National Dissemination Center for Children with Disabilities, which OSEP expects to fund this year, to ensure timely and accurate dissemination of progress monitoring information. Evidence of coordination and proposed outcomes of the coordination must be reported to the Federal project officer.

(k) Prior to developing any new product, whether paper or electronic, submit for approval a proposal describing the content and purpose of the product to the document review board of the National Dissemination Center for Children with Disabilities.

(l) In addition to the three two-day meetings listed in the General Requirements section of this notice, budget for, at least, two 2-day annual planning meetings and at least eight two-day trips annually as requested by OSEP to attend meetings such as Department briefings, Department sponsored conferences, and other OSEP-requested activities.

Fourth and Fifth Years of Project

In deciding whether to continue this project for the fourth and fifth years, the Secretary will consider the requirements of 34 CFR 75.253(a), and in addition—

(a) The recommendation of a review team consisting of experts selected by the Secretary which review will be conducted during the last half of the project's second year in Washington, DC. Projects must budget for the travel associated with this one-day intensive review;

(b) The timeliness and effectiveness with which all requirements of the negotiated cooperative agreement have been or are being met by the Center; and

(c) Evidence of the degree to which the Center's activities have contributed to a changed practice and improved student outcomes.

Individuals With Disabilities Education Act Application Notice for Fiscal Year 2003
CFDA No. and name | Applications available | Application deadline date | Deadline for intergovernmental review | Estimated available funds | Maximum award (per year) * | Project period | Page limit | Estimated number of awards
84.324H Research Institute on Progress Monitoring | 07/28/03 | 08/27/03 | 09/29/03 | $1,000,000 | $1,000,000 | Up to 60 mos. | 70 | 1
84.326W Technical Assistance and Dissemination Center on Progress Monitoring | 07/28/03 | 08/27/03 | 09/29/03 | 800,000 | 800,000 | Up to 60 mos. | 70 | 1
* We will reject any application that proposes a budget exceeding the maximum award for a single budget period of 12 months.
Note: The Department of Education is not bound by any estimates in this notice.

For Applications Contact: If you want an application for any competition in this notice, contact Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site: http://www.ed.gov/pubs/edpubs.html or you may contact ED Pubs at its e-mail address: edpubs@inet.ed.gov.

If you request an application from ED Pubs, be sure to identify the competition by the appropriate CFDA number.

FOR FURTHER INFORMATION CONTACT: If you want additional information about any competition in this notice, contact the Grants and Contracts Services Team, U.S. Department of Education, 400 Maryland Avenue, SW., room 3317, Switzer Building, Washington, DC 20202-2550. Telephone: (202) 205-8207.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT. However, the Department is not able to reproduce in an alternative format the standard forms included in the application package.

Intergovernmental Review

All programs in this notice (except for the Research and Innovation to Improve Services and Results for Children with Disabilities Program) are subject to the requirements of Executive Order 12372 and the regulations in 34 CFR part 79. One of the objectives of the Executive Order is to foster an intergovernmental partnership and a strengthened federalism. The Executive order relies on processes developed by State and local governments for coordination and review of proposed Federal financial assistance. This document provides early notification of our specific plans and actions for these programs.

Electronic Access to This Document

You may view this document, as well as all other Department of Education documents published in the Federal Register, in text or Adobe Portable Document Format (PDF) on the internet at the following site: www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1405, 1461, 1471, 1472, and 1485.

Dated: July 22, 2003.
Loretta Petty Chittum,
Acting Assistant Secretary for Special Education and Rehabilitative Services.

[FR Doc. 03-19081 Filed 7-25-03; 8:45 am]

BILLING CODE 4000-01-U